DEPARTMENT OF VETERANS AFFAIRS

National Research Advisory Council; Notice of Meeting

The Department of Veterans Affairs (VA) gives notice under Public Law 92-463 (Federal Advisory Committee Act) that the National Research Advisory Council will hold a meeting on Monday, May 7, 2007, in room 900 at the Greenhoot Cohen Building, 1722 I Street, NW., Washington, DC. The meeting will convene at 8 a.m. and end at 3 p.m. The meeting is open to the public.

The purpose of the Council is to provide external advice and review for VA's research mission. The May 7 meeting agenda will include a review of the VA research portfolio, a summary of current budget allocations and a discussion of information security. The Council will also provide feedback on the direction/focus of VA's research initiatives.

Any member of the public who expects to attend the meeting or wants additional information should contact Jay A. Freedman, PhD, Designated Federal Officer, at (202) 254-0267. Oral comments from the public will not be accepted at the meeting. Written statements or comments should be transmitted electronically to jay.freedman@va.gov or mailed to Dr. Freedman at Department of Veterans Affairs, Office of Research and Development (12), 810 Vermont Avenue, NW., Washington, DC 20420.

Dated: April 16, 2007.
By Direction of the Secretary.
E. Philip Riggin,
Committee Management Officer.

[FR Doc. 07-1948 Filed 4-19-05; 8:45 am]

BILLING CODE 8320-01-M